DEPARTMENT OF THE INTERIOR

Bureau of Land Management

[UTU 014955 and UTU Management 015233]

Public Land Order No. 7663; Partial Revocation of Public Land Order No. 1579; UT

AGENCY: Bureau of Land Management, Interior.

ACTION: Public Land Order.

SUMMARY: This order partially revokes a Public Land Order insofar as it affects approximately 3,613 acres of public lands within national forests, which were withdrawn for Forest Service recreation areas and administrative sites.

DATES: Effective Date: May 16, 2006.

FOR FURTHER INFORMATION CONTACT: Marsha Fryer, Forest Service, Intermountain Region, 324-25th Street, Ogden, Utah 84401-2310, 801-625-5802.

SUPPLEMENTARY INFORMATION: The Forest Service has determined that a withdrawal is no longer needed on the lands described in this order, and has requested the partial revocation. The lands will not be opened to surface entry or mining until completion of an analysis to determine if any of the lands need special designation.

Order

By virtue of the authority vested in the Secretary of the Interior by Section 204 of the Federal Land Policy and Management Act of 1976, 43 U.S.C. 1714 (2000), it is ordered as follows:

Public Land Order No. 1579 (23 FR 798, February 6, 1958), which withdrew public lands within national forests for Forest Service, Department of Agriculture administrative sites and recreational areas, is hereby revoked only insofar as it affects the following described lands:

(a) Uinta National Forest

Salt Lake Meridian

Aspen Grove Recreation Area

T. 5 S., R. 3 E.

Sec. 4, all of the S½ of lot 7 north of the centerline of State Highway 92, SE¼SE¼SW¼, and S½SW¼SE¼;

Sec. 9, W½NW¼NE¼, SE¼NW¼NE¼, and NE¼NW¼.

Big Tree Forest Camp No. 1 Recreation Area

T. 4 S., R. 3 E.

Sec. 33, S½SW¼NE¼, N½SE¼SE¼, and N½SE¼;

Sec. 34, W½NW¼SW¼.

Granite Flat Recreation Area

T. 4 S., R. 2 E.

Sec. 1, SE¼SE¼;

Sec. 12, E½E½NE¼.

T. 4 S., R. 3 E.

Sec. 7, N½NW¼NE¼NW¼, NE¼NE¼NW¼, S½NE¼NE¼SW¼, S½NE¼SW¼, NW¼NE¼SW¼, N½SE½SW¼, N½NE¼SE¼, E½NE¼NW¼SE¼, SW¼NW¼SE¼, and W½SE¼NW¼SE¼.

Holman Flat Forest Camp Recreation Area

T. 4 S., R. 3 E.

Sec. 5, lots 5, 6, 7, and 9 and W½SE¼NW¼.

Little Valley Recreation Area

T. 10 S., R. 5 W.

Sec. 14, NW¼NW¼;

Sec. 15, NE¼NE¼.

Mutual Dell Recreation Area

T. 4 S., R. 3 E.

Sec. 29, SW¼NW¼ and S½NW¼NW¼;

Sec. 30, all of NE¼NE¼ North of the centerline of State Route 92, NW¼NE¼, and N½SE¼NE¼.

Silver Lake Flat Recreation Area

T. 3 S., R. 2 E.

Sec. 36, SE¼NE¼ and E½SE¼.

T. 4 S., R. 2 E.

Sec. 1, lots 1 and 8.

T. 3 S., R. 3 E.

Sec. 31, lots 2, 3, and 4.

T. 4 S., R. 3 E.

Sec. 6, all of lot 6 North of Silver Creek, lots 4 and 5, SE¼NW¼, SE¼SW¼, NE¼SW¼, and SW¼SE¼.

South Fork to Tibble Fork Recreation Areas

T. 4 S., R. 2 E.

Sec. 24, W½SE¼NE¼, W½E1/2SE¼NE¼, and SE¼NE¼NE¼.

T. 4 S., R. 3 E.

Sec. 7, E½NW¼, E½SE¼SW¼, W½SW¼SE¼, NE¼SE¼SE¼, and NE¼SE¼SE¼SE¼;

Sec. 8, NE¼SW¼NW¼SW¼, S½SW¼NW¼SW¼, SE¼NW¼SW¼, N½SW¼SW¼, N½SW¼SW¼, N½S½SW¼SW¼, and SE¼SE¼SW¼SW¼;

Sec. 17, NE¼NW¼, E½NE¼NW¼NW¼, S½SW¼NW¼NW¼, SE¼NW¼NW¼, and N½SW¼NW¼;

Sec. 18, W½NW¼NE¼NE¼, SW¼NE¼NE¼, S½SE¼NE¼NE¼, SE¼NW¼NE¼, SW¼NE¼, W½SW¼NE¼, E½NE¼NW¼, NW¼SE¼NW¼, W½NW¼SW¼SW¼, NE¼NW¼SW¼, E½W½SW¼, W½SE¼SW¼, W½W½SW¼SW¼, E½NW¼SW¼SW¼, SE¼SW¼SW¼, and lot 4;

Sec. 19, E½NW¼NW¼.

Timpanogos Cave Recreation Area

T. 4 S., R. 2 E.

Sec. 24, all of the S½S½SW¼ lying within the Lone Peak Wilderness boundary;

Sec. 25, all of the N½NW¼NW¼ lying within the Lone Peak Wilderness boundary, S½SW¼NW¼NW¼, NE¼NE¼NE¼NW¼, S½NE¼NE¼NW¼, SE¼NW¼NW¼, and S½NE¼NW¼;

Sec. 26, all of the N½N½NE¼ lying within the Lone Peak Wilderness boundary, all of the S½NW¼NE¼ lying within the Lone Peak Wilderness boundary, S½S½NE¼NE¼, S½N½NW¼ lying within the Lone Peak Wilderness boundary, S½N½SE¼NW¼, and S½NE¼SW¼NW¼;

Sec. 27, all of the S½NE¼ lying within the Lone Peak Wilderness boundary, S½S½SE¼NE¼, and S½SE¼SW¼NE¼.

Timpooneke Recreation Area

T. 4. S., R. 3 E.

Sec. 29, N½SE¼SW¼ and all of SE¼SE¼SW¼ East of the centerline of State Route 92;

Sec. 31, S½NE¼SW¼NE¼, S½N½SE¼NE¼, and S½S½NE¼;

Sec. 32, all of NE¼NE¼NW¼ East and South of the centerline of State Route 92, SW¼NE¼, S½NW¼, and S½NE¼NW¼.

Little Valley Administrative Site

T. 10 S., R. 5 W.

Sec. 14, NE¼NW¼.

South Fork Administrative Site

T. 4 S., R. 2 E.

Sec. 24, E½NW¼SE¼, NE¼SE¼, SW¼SE¼, S½SE¼SE¼, E½NE¼SE¼SE¼, NE¼NW¼NE¼SE¼SE¼, SW¼NW¼SE¼SE¼, W½NW¼NW¼SE¼SE¼, and SW¼SE¼NW¼SE¼SE¼.

T. 4 S., R. 3 E.,

Sec. 19, lot 4.

Timpooneke Administrative Site

T. 4 S., R. 3 E.

Sec. 32, SW¼NW¼NW¼, S½SW¼SE¼NW¼NW¼, E½E½SE¼NW¼NW¼, and SW¼SE¼SE¼NW¼NW¼.

(b) Wasatch-Cache National Forest

Salt Lake Meridian

Alexander Lake Recreation Area

T. 2 S., R. 8 E.

Sec. 25, S½SE¼SE¼;

Sec. 36, NE¼NE¼ and E½NW¼NE¼.

T. 2 S., R. 9 E.

Sec. 30, SW¼SW¼;

Sec. 31, NW¼NW¼.

Blacks Fork Camp No. 1 Recreation Area

T. 2 N., R. 11 E.

Sec. 24, SW¼NW¼.

Blacks Fork Camp No. 3 Recreation Area

T. 2 N., R. 11 E.

Sec. 35, NW¼NW¼NE¼ and NE¼NE¼NW¼.

Brush Creek Recreation Area

T. 2 N., R. 12 E.

Sec. 8, NE¼NE¼.

Buckeye Lake Recreation Area

T. 2 S., R. 8 E.

Sec. 13, SE¼SE¼SE¼;

Sec. 24, E½NE¼NE¼.

T. 2 S., R. 9 E.

Sec. 19, NW¼NW¼.

Haydens Camp No. 2 Recreation Area

T. 1 N., R. 10 E.

Sec. 8, W½NW¼.

Haydens Camp No. 3 Recreation Area

T. 1 N., R. 9 E.

Sec. 36, S½NW¼NW¼ and SW¼NW¼.

Hourglass Lake Recreation Area

T. 2 S., R. 8 E.

Sec. 24, S½NW¼SW¼ and N½SW¼SW¼.

Lodge Pole Camp Recreation Area

T. 2 N., R. 10 E.

Sec. 26, W½NE¼SW¼ and E½NW¼SW¼.

Packers Camp Recreation Area

T. 1 S., R. 10 E.

Sec. 19, NE¼NW¼.

Pine Creek Camp Recreation Area

T. 3 S., R. 7 W.

Sec. 2, lots 1, 2, and 3, and SE¼NW¼.

Rock Creek Camp Recreation Area

T. 3 S., R. 8 E.

Sec. 4, SW¼SW¼.

Stillwater Camp No. 2 Recreation Area

T. 1 N., R. 10 E.

Sec. 9, NE¼NW¼.

Sulphur Camp Recreation Area

T. 1 N., R. 9 E.

Sec. 24, S½SW¼NE¼, W½SW¼SE¼, and NW¼SE¼.

(c) Wasatch-Cache National Forest

Uinta Special Meridian

Hoover and Marshall Recreation Area

T. 3 N., R. 9 W.

Sec. 2, SE¼SW¼ and SW¼SE¼;

Sec. 11, NW¼NE¼ and NE¼NW¼.

The areas described in (a), (b), and (c) above aggregate approximately 3,613 acres in Duchesne, Juab, Salt Lake, Summit, Tooele, Utah, and Wasatch Counties.

Dated: April 24, 2006.
Mark Limbaugh,
Assistant Secretary of the Interior.

[FR Doc. E6-7403 Filed 5-15-06; 8:45 am]

BILLING CODE 3410-11-P